DEPARTMENT OF THE TREASURY

Office of Thrift Supervision

Downey Savings and Loan Association, F.A.; Newport Beach, CA; Notice of Appointment of Receiver

Notice is hereby given that, pursuant to the authority contained in section 5(d)(2) of the Home Owners' Loan Act, the Office of Thrift Supervision has duly appointed the Federal Deposit Insurance Corporation as sole Receiver for Downey Savings and Loan Association, F.A., Newport Beach, California (OTS No. 06189).

Dated: November 21, 2008.
By the Office of Thrift Supervision.
Sandra E. Evans,
Federal Register Liaison.

[FR Doc. E8-28624 Filed 12-3-08; 8:45 am]

BILLING CODE 6720-01-M